DEPARTMENT OF AGRICULTURE

Forest Service

Bighorn National Forest; Wyoming; Livestock Grazing and Vegetation Management EIS; Livestock Grazing and Vegetation Management on Six Geographic Areas on the Tongue, Medicine Wheel/Paintrock, and Powder River Ranger Districts, Bighorn National Forest, Sheridan, Johnson, Washakie, and Big Horn Counties, WY

AGENCY: Forest Service, USDA.

ACTION: Notice of intent to prepare an environmental impact statement.

SUMMARY: The USDA, Forest Service, will prepare an environmental impact statement (EIS) to implement vegetation management strategies on forty three (43) domestic livestock grazing allotments, which will result in development of new allotment management plans (AMPs). On portions of the analysis area, fuel management in forested and sagebrush/grassland communities is being analyzed. The agency gives notice of the full environmental analysis and decision-making process so that interested and affected people are aware of how they may participate in the process and contribute to the final decision.

DATES: Comments concerning the scope of the analysis must be received by May 7, 2009. Based on past actions of this type, the Responsible Official has determined that an environmental impact statement will be prepared for this project. The draft environmental impact statement is expected January 2010 and the final environmental impact statement is expected September 2010.

ADDRESSES: Send written comments to William T. Bass, Bighorn National Forest Supervisor, 2013 Eastside Second Street, Sheridan, Wyoming 82801. Comments may also be sent via e-mail to comments-bighorn@fs.fed.us or via facsimile to 307-674-2668.

It is important that reviewers provide their comments at such times and in such a way that they are useful to the Agency's preparation of the EIS. Therefore, comments should be provided prior to the close of the comment period and should clearly articulate the reviewer's concerns and contentions. The submission of timely and specific comments can affect a reviewer's ability to participate in subsequent administrative review or judicial review.

Comments received in response to this solicitation, including names and addresses of those who comment, will be part of the public record for this proposed action. Comments submitted anonymously will be accepted and considered; however, anonymous comments will not provide the respondent with standing to participate in subsequent administrative review or judicial review.

FOR FURTHER INFORMATION CONTACT: Laurie Walters-Clark, Interdisciplinary Team Leader, Bighorn National Forest, phone (307) 674-2627.

Individuals who use telecommuni- cation devices for the deaf (TDD) may call the Federal Information Relay Service (FIRS) at 1-800-877-8339 between 8 a.m. and 8 p.m., Eastern Time, Monday through Friday.

SUPPLEMENTARY INFORMATION: This NOI corrects two past notices: Beaver Creek NOI (5/16/07) and Goose Creek NOI (5/29/08). These allotments are being included in this analysis. All comments received on Beaver Creek or Goose Creek will be retained for this analysis.

The 43 allotments to be analyzed are located in the Shell Creek, Paintrock Creek, Goose Creek, Little Bighorn River, Piney Creek/Rock Creek, and Tensleep geographic areas as mapped by the 2005 Bighorn National Forest Revised Land and Resource Management Plan (Forest Plan). Only National Forest System lands (NFS) within the Bighorn National Forest will be considered in the proposal. The purpose of the analysis is to determine if livestock grazing will continue on the analysis area. If the decision is to continue livestock grazing, management strategies outlining how livestock are to graze will be developed to assure implementation of Forest Plan management direction. The analysis will consider actions that continue to improve trends in vegetation, watershed conditions, and ecological sustainability relative to livestock grazing and fire and fuel management within the allotments. Management actions are proposed to be implementated beginning in the year 2011. The Forest Plan identified livestock grazing as an appropriate use and made initial determinations for lands capable and suitable for grazing by domestic livestock. The Forest Plan also identified fuel management activities as appropriate, where needed to maintain or restore ecosystem health.

The 43 allotments involved are: Antelope Ridge Sheep and Goat, Bear/Crystal Creek Sheep and Goat, Beaver Creek Sheep and Goat, Finger Creek Cattle and Horse, Grouse Creek Sheep and Goat, Hunt Mountain Sheep and Goat, Little Horn Sheep and Goat, Red Canyon Cattle and Horse, Red Canyon Sheep and Goat, Sunlight Mesa Cattle and Horse, Whaley Creek Sheep and Goat, Wiley-Sundown Cattle and Horse, Matthews Ridge Cattle and Horse, South Park Cattle and Horse, Big Goose Cattle and Horse, Little Goose Cattle and Horse, Little Goose Canyon Cattle and Horse, Walker Prairie Cattle and Horse, Rapid Creek Cattle and Horse, Stull Lakes Cattle and Horse, Tourist Horse Special Use Permit, Fisher Mountain Cattle and Horse, Little Horn Cattle and Horse, Red Springs Cattle and Horse, Sage Basin Cattle and Horse, Wyoming Gulch Cattle and Horse, Dry Fork Ridge Cattle and Horse, Lake Creek Cattle and Horse, Lower Dry Fork Cattle and Horse, West Pass Cattle and Horse, Rock Creek Cattle and Horse, Baby Wagon Sheep and Goat, Dry Tensleep Cattle and Horse, Garnet Creek Sheep and Goat, Hazelton Sheep and Goat, Leigh Creek Sheep and Goat, McLain Lake Sheep and Goat, Monument Cattle and Horse, North Canyon Cattle and Horse, South Canyon Cattle and Horse, Tensleep Canyon Cattle and Horse, Upper Meadows Sheep and Goat, and Willow Sheep and Goat. The proposed fire and fuel management actions all occur within the above allotment boundaries.

Purpose and Need for Action

The purpose of this project is to determine if livestock grazing will continue to be authorized on the allotments, and if it is to continue, how to best utilize adaptive management strategies to maintain or achieve desired conditions and meet forest plan objectives. Livestock grazing is currently occurring on most of the allotments under existing allotment management plans (AMPs) and through direction provided in the Annual Operating Instructions (AOI).

Proposed Action

The proposed action is to continue livestock grazing using adaptive management strategies to meet or move toward meeting Forest Plan and allotment-specific desired conditions. This may include changing livestock management strategies as well as construction of additional range improvements (fences and water developments). The proposed action also includes the use of various fuel management methods within portions of some allotments.

Possible Alternatives

Two additional alternatives have been identified to date: (1) No action; remove livestock grazing from these allotments and no additional fire and fuel management actions over what are already approved, and (2) No change; continuance of current management strategies.

Responsible Official

The District Rangers that administer the term grazing permis are the responsible officials. They are: Clarke McClung, Tongue Ranger District, Bighorn National Forest, 2013 Eastside 2nd Street, Sheridan, Wyoming 82801, Dave Sisk, Medicine Wheel/Paintrock Ranger District, 604 East Main Street, Lovell, Wyoming 82431, and Mark Booth, Powder River Ranger District, 1415 Fort Street, Buffalo, Wyoming 82834.

Nature of Decision To Be Made

The Responsible Officials will consider the results of the analysis and its finding and then document the final decision in one or more Records of Decision (ROD). The decisions will determine whether or not to authorize livestock grazing, adaptive management strategies, design criteria, monitoring and fuel management activities on all, part, or none of the allotments, and if so, what adaptive management design criteria, adaptive options, and monitoring will be implemented so as to meet or move toward meeting the desired conditions in the defined timeframe.

Scoping Process

This notice of intent continues the scoping process, which guides the development of the environmental impact statement. A scoping document for this project is planned to be available March 2009.

It is important that reviewers provide their comments at such times and in such manner that they are useful to the agency's preparation of the environmental impact statement. Therefore, comments should be provided prior to the close of the comment period and should clearly articulate the reviewer's concerns and contentions. The submission of timely and specific comments can affect a reviewer's ability to participate in subsequent administrative appeal or judicial review.

Dated: March 27, 2009.
William T. Bass,
Forest Supervisor.

[FR Doc. E9-7558 Filed 4-6-09; 8:45 am]

BILLING CODE 3410-11-M